ENVIRONMENTAL PROTECTION AGENCY

[FRL-6894-8]

Board of Scientific Counselors, Executive Committee Meeting

AGENCY: Environmental Protection Agency (EPA).

ACTION: Notice of teleconference.

SUMMARY: Pursuant to the Federal Advisory Committee Act, Public Law 92-463, as amended (5 U.S.C., App. 2) notification is hereby given that the Environmental Protection Agency, Office of Research and Development (ORD), The Board of Scientific Counselors (BOSC), will hold its Executive Committee Meeting.

DATES: The Teleconference will be held on November 16, 2000.

ADDRESSES: On Thursday, November 16, 2000, the teleconference will begin at 10 a.m. and will adjourn at 12 Noon. The call in number is 202-260-7280, access code: 1774#. All times noted are Eastern Time.

SUPPLEMENTARY INFORMATION: The Agenda of the BOSC Executive Committee will cover:

• Discussion and approval of the BOSC report on the Management of PM Research in ORD,

• Committee Assignments,

• Multi-year Planning.

The teleconference is open to the public. Any member of the public wishing to make a presentation at the meeting should contact Shirley Hamilton, Designated Federal Officer, Office of Research and Development (8701R), 1200 Pennsylvania Avenue, NW., Washington, DC 20460; telephone at (202) 564-6853. In general each individual making an oral presentation will be limited to a total of three minutes.

FOR FURTHER INFORMATION CONTACT: Shirley R. Hamilton, Designated Federal Officer, U.S. Environmental Protection Agency, Office of Research and Development, NCER (MC 8701R), 1200 Pennsylvania Avenue, NW., Washington, DC 20460, (202) 564-6853.

Dated: October 27, 2000.
Peter W. Preuss,
Director, National Center for Environmental Research.

[FR Doc. 00-28008 Filed 10-31-00; 8:45 am]

BILLING CODE 6560-50-M